SMALL BUSINESS ADMINISTRATION

Disaster Declaration # 12368 and # 12369

Puerto Rico Disaster # PR-00012

AGENCY: U.S. Small Business Administration.

ACTION: Notice.

SUMMARY: This is a Notice of the Presidential declaration of a major disaster for Public Assistance Only for the Commonwealth of Puerto Rico (FEMA—1946—DR), dated 10/26/2010.

Incident: Severe Storms, Flooding, Mudslides, and Landslides associated with Tropical Storm Otto

Incident Period: 10/04/2010 through 10/08/2010.

Effective Date: 10/26/2010.

Physical Loan Application Deadline Date: 12/27/2010.

Economic Injury (EIDL) Loan Application Deadline Date: 07/26/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: Notice is hereby given that as a result of the President's major disaster declaration on 10/26/2010, Private Non-Profit organizations that provide essential services of governmental nature may file disaster loan applications at the address listed above or other locally announced locations.

The following areas have been determined to be adversely affected by the disaster:

Primary Municipalities:

Aibonito, Anasco, Guanica, Guayama, Jayuya, Lares, Las Marias, Maricao, Mayaguez, Patillas, Ponce, Sabana Grande, Salinas, San German, Utuado, Yabucoa, Yauco.

The Interest Rates are:

| Percent
For Physical Damage:
Non-Profit Organizations With Credit Available Elsewhere | 3.625
Non-Profit Organizations Without Credit Available Elsewhere | 3.000
For Economic Injury:
Non-Profit Organizations Without Credit Available Elsewhere | 3.000

The number assigned to this disaster for physical damage is 123686 and for economic injury is 123696.

(Catalog of Federal Domestic Assistance Numbers 59002 and 59008)

James E. Rivera,
Associate Administrator for Disaster Assistance.

[FR Doc. 2010-27977 Filed 11-4-10; 8:45 am]

BILLING CODE 8025-01-P